NUCLEAR REGULATORY COMMISSION

[Docket No. 050-206]

Notice of Availability of Environmental Assessment and Finding of No Significant Impact for an Exemption From Certain Requirements in 10 CFR Part 20 Appendix G for the San Onofre Nuclear Generating Station, Unit 1, in San Diego County, CA

I. Introduction

The U.S. Nuclear Regulatory Commission (NRC) is considering the issuance of a one-time exemption from certain requirements of 10 CFR part 20 (part 20) for the San Onofre Nuclear Generating Station, Unit 1, a permanently shutdown nuclear reactor facility. On March 7, 2003, Southern California Edison (the licensee) requested an exemption from the requirements in part 20, Appendix G Section III.E to investigate and file a report to the NRC if a shipment of radioactive waste is not acknowledged by the intended recipient within 20 days after transfer to the shipper. The licensee made this request because, in this particular case, the transport time for the reactor vessel shipment is currently expected to take approximately 90 days to reach the disposal site. The NRC staff has prepared an Environmental Assessment (EA) in support of this action in accordance with the requirements of 10 CFR part 51. The conclusion of the EA is a Finding of No Significant Impact (FONSI) for the proposed action.

II. EA Summary

The proposed action would allow the licensee to transport the reactor vessel from the San Onofre Nuclear Generating Station to the Chem-Nuclear low-level radioactive waste disposal facility at Barnwell County, South Carolina. The travel time is estimated to be as long as 90 days. However, since the time of travel to reach the low-level waste burial site is longer than 20 days, part 20, Appendix G Section III.E would require the licensee to investigate, trace, and file a report with the NRC on the location of the reactor vessel 20 days into its approximate 90-day journey. The licensee has requested an exemption from these requirements because they are not meaningful in this instance.

The NRC has examined the licensee's proposed exemption request and concluded that it is procedural and administrative in nature. Additionally, there are no significant radiological environmental impacts associated with the proposed action; nor, are there any nonradiological environmental impacts associated with the proposed action.

III. Finding of No Significant Impact

NRC has prepared the EA (summarized above) in support of the licensee's application for an exemption request. On the basis of the environmental assessment, the NRC concludes that the proposed action will not have a significant effect on the quality of the human environment. Accordingly, the NRC has determined not to prepare an environmental impact statement for the proposed action.

IV. Further Information

The EA and the documents related to this proposed action, including the request for the exemption, are available for inspection at NRC's Public Electronic Reading Room at http://www.nrc.gov/reading-rm/adams.html. The ADAMS accession number for the licensee's March 7, 2003 exemption request letter is ML030730547. The ADAMS accession number for the staff's EA is ML031000319. Documents may also be examined, and/or copied for a fee, at the NRC Public Document Room (PDR), located at One White Flint North, 11555 Rockville Pike, Rockville, Maryland 20852. Any questions with respect to this action should be referred to William Huffman, Division of Waste Management, Office of Nuclear Material Safety and Safeguards, telephone (301) 415-1141.

Dated at Rockville, Maryland, this 16th day of April, 2003.
For the Nuclear Regulatory Commission.
Daniel M. Gillen,
Chief, Decommissioning Branch, Division of Waste Management, Office of Nuclear Material Safety and Safeguards.

[FR Doc. 03-10011 Filed 4-22-03; 8:45 am]

BILLING CODE 7590-01-P